POSTAL REGULATORY COMMISSION

39 CFR Part 3020

[Docket Nos. MC2010-21 and CP2010-36]

Update to Competitive Product List

AGENCY: Postal Regulatory Commission.

ACTION: Final rule.

SUMMARY: The Commission is updating the competitive product list. This action reflects a publication policy adopted by Commission order. The referenced policy assumes periodic updates. The updates are identified in the body of this document. The competitive product list, which is republished in its entirety, includes these updates.

DATES: Effective Date: January 30, 2017.

Applicability Dates: October 4, 2016, Priority Mail Contract 240 (MC2016-201 and CP2016-290); October 4, 2016, Priority Mail Contract 242 (MC2016-203 and CP2016-292); October 4, 2016, Priority Mail Express & Priority Mail Contract 35 (MC2016-205 and CP2016-294); October 4, 2016, Priority Mail Contract 241 (MC2016-202 and CP2016-291); October 4, 2016, Priority Mail Contract 243 (MC2016-204 and CP2016-293); October 5, 2016, First-Class Package Service Contract 64 (MC2016-206 and CP2016-295); October 6, 2016, Priority Mail & First-Class Package Service Contract 32 (MC2016-209 and CP2016-298); October 6, 2016, Priority Mail & First-Class Package Service Contract 33 (MC2016-210 and CP2016-299); October 6, 2016, Priority Mail Express & Priority Mail Contract 36 (MC2016-207 and CP2016-296); October 12, 2016, Priority Mail & First-Class Package Service Contract 34 (MC2016-211 and CP2016-300); October 12, 2016, Priority Mail Contract 244 (MC2016-212 and CP2016-301); October 17, 2016, Priority Mail Contract 245 (MC2017-1 and CP2017-1); October 17, 2016, Priority Mail Contract 246 (MC2017-2 and CP2017-2); October 17, 2016, Priority Mail Contract 247 (MC2017-3 and CP2017-3); October 17, 2016, Priority Mail Express, Priority Mail & First-Class Package Service Contract 11 (MC2017-4 and CP2017-4); October 25, 2016, Priority Mail Express & Priority Mail Contract 37 (MC2017-6 and CP2017-12); October 25, 2016, Priority Mail Contract 248 (MC2017-5 and CP2017-11); October 27, 2016, Parcel Select Contract 17 (MC2016-200 and CP2016-284); November 3, 2016, Priority Mail Contract 252 (MC2017-10 and CP2017-25); November 3, 2016, Priority Mail Contract 253 (MC2017-11 and CP2017-26); November 3, 2016, Priority Mail Contract 249 (MC2017-7 and CP2017-22); November 3, 2016, Priority Mail Contract 251 (MC2017-9 and CP2017-24); November 3, 2016, Priority Mail Express Contract 43 (MC2017-12 and CP2017-27); November 3, 2016, Priority Mail Contract 250 (MC2017-8 and CP2017-23); November 4, 2016, Priority Mail & Parcel Select Contract 2 (MC2017-13 and CP2017-29); November 7, 2016, Priority Mail Express Contract 42 (MC2016-208 and CP2016-297); November 15, 2016, First-Class Package Service Contract 65 (MC2017-14 and CP2017-30); November 15, 2016, Priority Mail Contract 255 (MC2017-16 and CP2017-32); November 15, 2016, Priority Mail Contract 254 (MC2017-15 and CP2017-31); November 23, 2016, Priority Mail Contract 256 (MC2017-17 and CP2017-36); November 23, 2016, First-Class Package Service Contract 66 (MC2017-20 and CP2017-39); November 23, 2016, Priority Mail Contract 258 (MC2017-19 and CP2017-38); November 28, 2016, Priority Mail Express, Priority Mail & First-Class Package Service Contract 12 (MC2017-21 and CP2017-41); November 29, 2016, Priority Mail Contract 257 (MC2017-18 and CP2017-37); December 5, 2016, Priority Mail & First-Class Package Service Contract 35 (MC2017-23 and CP2017-43); December 5, 2016, Priority Mail & First-Class Package Service Contract 36 (MC2017-24 and CP2017-44); December 5, 2016, Priority Mail & First-Class Package Service Contract 37 (MC2017-25 and CP2017-45); December 5, 2016, Priority Mail Express, Priority Mail & First-Class Package Service Contract 13 (MC2017-22 and CP2017-42); December 13, 2016, Priority Mail Contract 261 (MC2017-28 and CP2017-53); December 13, 2016, Priority Mail Contract 259 (MC2017-26 and CP2017-51); December 13, 2016, Priority Mail Contract 260 (MC2017-27 and CP2017-52); December 14, 2016, Priority Mail Contract 262 (MC2017-29 and CP2017-54); December 14, 2016, Priority Mail Contract 264 (MC2017-31 and CP2017-56); December 14, 2016, Priority Mail Contract 263 (MC2017-30 and CP2017-55); December 14, 2016, Priority Mail Contract 265 (MC2017-32 and CP2017-57); December 15, 2016, Priority Mail Express, Priority Mail & First-Class Package Service Contract 14 (MC2017-33 and CP2017-58); December 15, 2016, First-Class Package Service Contract 67 (MC2017-34 and CP2017-59); December 20, 2016, Priority Mail & First-Class Package Service Contract 38 (MC2017-35 and CP2017-60); December 20, 2016, Priority Mail & First-Class Package Service Contract 39 (MC2017-36 and CP2017-61); December 20, 2016, Priority Mail & First-Class Package Service Contract 40 (MC2017-37 and CP2017-62); December 20, 2016, Priority Mail Express & Priority Mail Contract 38 (MC2017-38 and CP2017-63); December 22, 2016, First-Class Package Service Contract 69 (MC2017-40 and CP2017-65); December 22, 2016, Priority Mail Contract 268 (MC2017-43 and CP2017-68); December 22, 2016, Priority Mail Contract 266 (MC2017-41 and CP2017-66); December 22, 2016, Priority Mail Contract 267 (MC2017-42 and CP2017-67); December 22, 2016, First-Class Package Service Contract 68 (MC2017-39 and CP2017-64); December 22, 2016, Priority Mail Contract 269 (MC2017-44 and CP2017-69); December 22, 2016, Priority Mail Contract 270 (MC2017-45 and CP2017-71); December 22, 2016, Priority Mail Contract 271 (MC2017-46 and CP2017-72); December 23, 2016, Priority Mail Contract 272 (MC2017-47 and CP2017-73); December 23, 2016, Priority Mail & First-Class Package Service Contract 41 (MC2017-48 and CP2017-74); December 23, 2016, Priority Mail Express Contract 44 (MC2017-49 and CP2017-75); December 23, 2016, Priority Mail Contract 273 (MC2017-50 and CP2017-76); December 27, 2016, Priority Mail Contract 274 (MC2017-51 and CP2017-77); December 27, 2016, Priority Mail Contract 275 (MC2017-52 and CP2017-78); December 27, 2016, Priority Mail & First-Class Package Service Contract 42 (MC2017-56 and CP2017-82); December 27, 2016, Priority Mail Contract 277 (MC2017-54 and CP2017-80); December 27, 2016, First-Class Package Service Contract 70 (MC2017-55 and CP2017-81); December 28, 2016, Priority Mail Contract 278 (MC2017-57 and CP2017-83); December 30, 2016, Priority Mail Contract 276 (MC2017-53 and CP2017-79).

FOR FURTHER INFORMATION CONTACT: David A. Trissell, General Counsel, at 202-789-6800.

SUPPLEMENTARY INFORMATION: This document identifies updates to the competitive product list, which appear as 39 CFR Appendix B to Subpart A of Part 3020—Competitive Product List. Publication of the updated product list in the Federal Register is addressed in the Postal Accountability and Enhancement Act (PAEA) of 2006.

Authorization. The Commission process for periodic publication of updates was established in Docket Nos. MC2010-21 and CP2010-36, Order No. 445, April 22, 2010, at 8.

Changes. The competitive product list is being updated by publishing a replacement in its entirety of 39 CFR Appendix B to Subpart A of Part 3020—Competitive Product List. The following products are being added, removed, or moved within the competitive product list:

1. Priority Mail Contract 240 (MC2016-201 and CP2016-290) (Order No. 3548), added October 4, 2016.

2. Priority Mail Contract 242 (MC2016-203 and CP2016-292) (Order No. 3549), added October 4, 2016.

3. Priority Mail Express & Priority Mail Contract 35 (MC2016-205 and CP2016-294) (Order No. 3550), added October 4, 2016.

4. Priority Mail Contract 241 (MC2016-202 and CP2016-291) (Order No. 3551), added October 4, 2016.

5. Priority Mail Contract 243 (MC2016-204 and CP2016-293) (Order No. 3552), added October 4, 2016.

6. First-Class Package Service Contract 64 (MC2016-206 and CP2016-295) (Order No. 3553), added October 5, 2016.

7. Priority Mail & First-Class Package Service Contract 32 (MC2016-209 and CP2016-298) (Order No. 3555), added October 6, 2016.

8. Priority Mail & First-Class Package Service Contract 33 (MC2016-210 and CP2016-299) (Order No. 3556), added October 6, 2016.

9. Priority Mail Express & Priority Mail Contract 36 (MC2016-207 and CP2016-296) (Order No. 3557), added October 6, 2016.

10. Priority Mail & First-Class Package Service Contract 34 (MC2016-211 and CP2016-300) (Order No. 3562), added October 12, 2016.

11. Priority Mail Contract 244 (MC2016-212 and CP2016-301) (Order No. 3563), added October 12, 2016.

12. Priority Mail Contract 245 (MC2017-1 and CP2017-1) (Order No. 3569), added October 17, 2016.

13. Priority Mail Contract 246 (MC2017-2 and CP2017-2) (Order No. 3570), added October 17, 2016.

14. Priority Mail Contract 247 (MC2017-3 and CP2017-3) (Order No. 3571), added October 17, 2016.

15. Priority Mail Express, Priority Mail & First-Class Package Service Contract 11 (MC2017-4 and CP2017-4) (Order No. 3572), added October 17, 2016.

16. Priority Mail Express & Priority Mail Contract 37 (MC2017-6 and CP2017-12) (Order No. 3583), added October 25, 2016.

17. Priority Mail Contract 248 (MC2017-5 and CP2017-11) (Order No. 3584), added October 25, 2016.

18. Parcel Select Contract 17 (MC2016-200 and CP2016-284) (Order No. 3592), added October 27, 2016.

19. Priority Mail Contract 252 (MC2017-10 and CP2017-25) (Order No. 3599), added November 3, 2016.

20. Priority Mail Contract 253 (MC2017-11 and CP2017-26) (Order No. 3600), added November 3, 2016.

21. Priority Mail Contract 249 (MC2017-7 and CP2017-22) (Order No. 3602), added November 3, 2016.

22. Priority Mail Contract 251 (MC2017-9 and CP2017-24) (Order No. 3603), added November 3, 2016.

23. Priority Mail Express Contract 43 (MC2017-12 and CP2017-27) (Order No. 3604), added November 3, 2016.

24. Priority Mail Contract 250 (MC2017-8 and CP2017-23) (Order No. 3605), added November 3, 2016.

25. Priority Mail & Parcel Select Contract 2 (MC2017-13 and CP2017-29) (Order No. 3607), added November 4, 2016.

26. Priority Mail Express Contract 42 (MC2016-208 and CP2016-297) (Order No. 3608), added November 7, 2016.

27. First-Class Package Service Contract 65 (MC2017-14 and CP2017-30) (Order No. 3611), added November 15, 2016.

28. Priority Mail Contract 255 (MC2017-16 and CP2017-32) (Order No. 3613), added November 15, 2016.

29. Priority Mail Contract 254 (MC2017-15 and CP2017-31) (Order No. 3614), added November 15, 2016.

30. Priority Mail Contract 256 (MC2017-17 and CP2017-36) (Order No. 3627), added November 23, 2016.

31. First-Class Package Service Contract 66 (MC2017-20 and CP2017-39) (Order No. 3633), added November 23, 2016.

32. Priority Mail Contract 258 (MC2017-19 and CP2017-38) (Order No. 3636), added November 23, 2016.

33. Priority Mail Express, Priority Mail & First-Class Package Service Contract 12 (MC2017-21 and CP2017-41) (Order No. 3637), added November 28, 2016.

34. Priority Mail Contract 257 (MC2017-18 and CP2017-37) (Order No. 3639), added November 29, 2016.

35. Priority Mail & First-Class Package Service Contract 35 (MC2017-23 and CP2017-43) (Order No. 3643), added December 5, 2016.

36. Priority Mail & First-Class Package Service Contract 36 (MC2017-24 and CP2017-44) (Order No. 3644), added December 5, 2016.

37. Priority Mail & First-Class Package Service Contract 37 (MC2017-25 and CP2017-45) (Order No. 3645), added December 5, 2016.

38. Priority Mail Express, Priority Mail & First-Class Package Service Contract 13 (MC2017-22 and CP2017-42) (Order No. 3646), added December 5, 2016.

39. Priority Mail Contract 261 (MC2017-28 and CP2017-53) (Order No. 3658), added December 13, 2016.

40. Priority Mail Contract 259 (MC2017-26 and CP2017-51) (Order No. 3659), added December 13, 2016.

41. Priority Mail Contract 260 (MC2017-27 and CP2017-52) (Order No. 3661), added December 13, 2016.

42. Priority Mail Contract 262 (MC2017-29 and CP2017-54) (Order No. 3662), added December 14, 2016.

43. Priority Mail Contract 264 (MC2017-31 and CP2017-56) (Order No. 3663), added December 14, 2016.

44. Priority Mail Contract 263 (MC2017-30 and CP2017-55) (Order No. 3664), added December 14, 2016.

45. Priority Mail Contract 265 (MC2017-32 and CP2017-57) (Order No. 3667), added December 14, 2016.

46. Priority Mail Express, Priority Mail & First-Class Package Service Contract 14 (MC2017-33 and CP2017-58) (Order No. 3668), added December 15, 2016.

47. First-Class Package Service Contract 67 (MC2017-34 and CP2017-59) (Order No. 3669), added December 15, 2016.

48. Priority Mail & First-Class Package Service Contract 38 (MC2017-35 and CP2017-60) (Order No. 3674), added December 20, 2016.

49. Priority Mail & First-Class Package Service Contract 39 (MC2017-36 and CP2017-61) (Order No. 3675), added December 20, 2016.

50. Priority Mail & First-Class Package Service Contract 40 (MC2017-37 and CP2017-62) (Order No. 3678), added December 20, 2016.

51. Priority Mail Express & Priority Mail Contract 38 (MC2017-38 and CP2017-63) (Order No. 3679), added December 20, 2016.

52. First-Class Package Service Contract 69 (MC2017-40 and CP2017-65) (Order No. 3686), added December 22, 2016.

53. Priority Mail Contract 268 (MC2017-43 and CP2017-68) (Order No. 3687), added December 22, 2016.

54. Priority Mail Contract 266 (MC2017-41 and CP2017-66) (Order No. 3688), added December 22, 2016.

55. Priority Mail Contract 267 (MC2017-42 and CP2017-67) (Order No. 3689), added December 22, 2016.

56. First-Class Package Service Contract 68 (MC2017-39 and CP2017-64) (Order No. 3691), added December 22, 2016.

57. Priority Mail Contract 269 (MC2017-44 and CP2017-69) (Order No. 3692), added December 22, 2016.

58. Priority Mail Contract 270 (MC2017-45 and CP2017-71) (Order No. 3694), added December 22, 2016.

59. Priority Mail Contract 271 (MC2017-46 and CP2017-72) (Order No. 3696), added December 22, 2016.

60. Priority Mail Contract 272 (MC2017-47 and CP2017-73) (Order No. 3697), added December 23, 2016.

61. Priority Mail & First-Class Package Service Contract 41 (MC2017-48 and CP2017-74) (Order No. 3698), added December 23, 2016.

62. Priority Mail Express Contract 44 (MC2017-49 and CP2017-75) (Order No. 3699), added December 23, 2016.

63. Priority Mail Contract 273 (MC2017-50 and CP2017-76) (Order No. 3700), added December 23, 2016.

64. Priority Mail Contract 274 (MC2017-51 and CP2017-77) (Order No. 3701), added December 27, 2016.

65. Priority Mail Contract 275 (MC2017-52 and CP2017-78) (Order No. 3702), added December 27, 2016.

66. Priority Mail & First-Class Package Service Contract 42 (MC2017-56 and CP2017-82) (Order No. 3703), added December 27, 2016.

67. Priority Mail Contract 277 (MC2017-54 and CP2017-80) (Order No. 3704), added December 27, 2016.

68. First-Class Package Service Contract 70 (MC2017-55 and CP2017-81) (Order No. 3705), added December 27, 2016.

69. Priority Mail Contract 278 (MC2017-57 and CP2017-83) (Order No. 3708), added December 28, 2016.

70. Priority Mail Contract 276 (MC2017-53 and CP2017-79) (Order No. 3715), added December 30, 2016.

The following negotiated service agreements have expired and are being deleted from the Competitive Product List:

1. Priority Mail Contract 66 (MC2014-2 and CP2014-2) (Order No. 1869).

2. Priority Mail Contract 70 (MC2014-8 and CP2014-9) (Order No. 1897).

3. Priority Mail Contract 71 (MC2014-9 and CP2014-10) (Order No. 1914).

4. Priority Mail Contract 72 (MC2014-10 and CP2014-11) (Order No. 1915).

Updated product lists. The referenced changes to the competitive product list are incorporated into 39 CFR Appendix B to Subpart A of Part 3020—Competitive Product List.

List of Subjects in 39 CFR Part 3020

Administrative practice and procedure, Postal Service.

For the reasons discussed in the preamble, the Postal Regulatory Commission amends chapter III of title 39 of the Code of Federal Regulations as follows:

PART 3020—PRODUCT LISTS

1. The authority citation for part 3020 continues to read as follows:

Authority: 39 U.S.C. 503; 3622; 3631; 3642; 3682.

2. Revise Appendix B to Subpart A of Part 3020—Competitive Product List to read as follows:

Appendix B to Subpart A of Part 3020—Competitive Product List

(An asterisk (*) indicates an organizational class or group, not a Postal Service product.)

Domestic Products*

Priority Mail Express

Priority Mail

Parcel Select

Parcel Return Service

First-Class Package Service

Retail Ground

International Products*

Outbound International Expedited Services

Inbound Parcel Post (at UPU rates)

Outbound Priority Mail International

International Priority Airmail (IPA)

International Surface Air List (ISAL)

International Direct Sacks—M-Bags

Outbound Single-Piece First-Class Package International Service

Negotiated Service Agreements *

Domestic*

Priority Mail Express Contract 8

Priority Mail Express Contract 16

Priority Mail Express Contract 17

Priority Mail Express Contract 18

Priority Mail Express Contract 19

Priority Mail Express Contract 20

Priority Mail Express Contract 21

Priority Mail Express Contract 22

Priority Mail Express Contract 23

Priority Mail Express Contract 24

Priority Mail Express Contract 25

Priority Mail Express Contract 26

Priority Mail Express Contract 27

Priority Mail Express Contract 28

Priority Mail Express Contract 29

Priority Mail Express Contract 30

Priority Mail Express Contract 31

Priority Mail Express Contract 32

Priority Mail Express Contract 33

Priority Mail Express Contract 34

Priority Mail Express Contract 35

Priority Mail Express Contract 36

Priority Mail Express Contract 37

Priority Mail Express Contract 38

Priority Mail Express Contract 39

Priority Mail Express Contract 40

Priority Mail Express Contract 41

Priority Mail Express Contract 42

Priority Mail Express Contract 43

Priority Mail Express Contract 44

Parcel Return Service Contract 5

Parcel Return Service Contract 6

Parcel Return Service Contract 7

Parcel Return Service Contract 8

Parcel Return Service Contract 9

Parcel Return Service Contract 10

Priority Mail Contract 24

Priority Mail Contract 59

Priority Mail Contract 63

Priority Mail Contract 64

Priority Mail Contract 65

Priority Mail Contract 67

Priority Mail Contract 73

Priority Mail Contract 74

Priority Mail Contract 75

Priority Mail Contract 76

Priority Mail Contract 77

Priority Mail Contract 78

Priority Mail Contract 79

Priority Mail Contract 80

Priority Mail Contract 81

Priority Mail Contract 82

Priority Mail Contract 83

Priority Mail Contract 84

Priority Mail Contract 85

Priority Mail Contract 86

Priority Mail Contract 87

Priority Mail Contract 88

Priority Mail Contract 89

Priority Mail Contract 90

Priority Mail Contract 91

Priority Mail Contract 92

Priority Mail Contract 93

Priority Mail Contract 94

Priority Mail Contract 95

Priority Mail Contract 96

Priority Mail Contract 97

Priority Mail Contract 98

Priority Mail Contract 99

Priority Mail Contract 100

Priority Mail Contract 101

Priority Mail Contract 102

Priority Mail Contract 103

Priority Mail Contract 104

Priority Mail Contract 105

Priority Mail Contract 106

Priority Mail Contract 107

Priority Mail Contract 108

Priority Mail Contract 109

Priority Mail Contract 110

Priority Mail Contract 111

Priority Mail Contract 112

Priority Mail Contract 113

Priority Mail Contract 114

Priority Mail Contract 115

Priority Mail Contract 116

Priority Mail Contract 117

Priority Mail Contract 118

Priority Mail Contract 119

Priority Mail Contract 120

Priority Mail Contract 121

Priority Mail Contract 122

Priority Mail Contract 123

Priority Mail Contract 124

Priority Mail Contract 125

Priority Mail Contract 126

Priority Mail Contract 127

Priority Mail Contract 128

Priority Mail Contract 129

Priority Mail Contract 130

Priority Mail Contract 131

Priority Mail Contract 132

Priority Mail Contract 133

Priority Mail Contract 134

Priority Mail Contract 135

Priority Mail Contract 136

Priority Mail Contract 137

Priority Mail Contract 138

Priority Mail Contract 139

Priority Mail Contract 140

Priority Mail Contract 141

Priority Mail Contract 142

Priority Mail Contract 143

Priority Mail Contract 144

Priority Mail Contract 145

Priority Mail Contract 146

Priority Mail Contract 147

Priority Mail Contract 148

Priority Mail Contract 149

Priority Mail Contract 150

Priority Mail Contract 151

Priority Mail Contract 152

Priority Mail Contract 153

Priority Mail Contract 154

Priority Mail Contract 155

Priority Mail Contract 156

Priority Mail Contract 157

Priority Mail Contract 158

Priority Mail Contract 159

Priority Mail Contract 160

Priority Mail Contract 161

Priority Mail Contract 162

Priority Mail Contract 163

Priority Mail Contract 164

Priority Mail Contract 165

Priority Mail Contract 166

Priority Mail Contract 167

Priority Mail Contract 168

Priority Mail Contract 169

Priority Mail Contract 170

Priority Mail Contract 171

Priority Mail Contract 172

Priority Mail Contract 173

Priority Mail Contract 174

Priority Mail Contract 175

Priority Mail Contract 176

Priority Mail Contract 177

Priority Mail Contract 178

Priority Mail Contract 179

Priority Mail Contract 180

Priority Mail Contract 181

Priority Mail Contract 182

Priority Mail Contract 183

Priority Mail Contract 184

Priority Mail Contract 185

Priority Mail Contract 186

Priority Mail Contract 187

Priority Mail Contract 188

Priority Mail Contract 189

Priority Mail Contract 190

Priority Mail Contract 191

Priority Mail Contract 192

Priority Mail Contract 193

Priority Mail Contract 194

Priority Mail Contract 195

Priority Mail Contract 196

Priority Mail Contract 197

Priority Mail Contract 198

Priority Mail Contract 199

Priority Mail Contract 200

Priority Mail Contract 201

Priority Mail Contract 202

Priority Mail Contract 203

Priority Mail Contract 204

Priority Mail Contract 205

Priority Mail Contract 206

Priority Mail Contract 207

Priority Mail Contract 208

Priority Mail Contract 209

Priority Mail Contract 210

Priority Mail Contract 211

Priority Mail Contract 212

Priority Mail Contract 213

Priority Mail Contract 214

Priority Mail Contract 215

Priority Mail Contract 216

Priority Mail Contract 217

Priority Mail Contract 218

Priority Mail Contract 219

Priority Mail Contract 220

Priority Mail Contract 221

Priority Mail Contract 222

Priority Mail Contract 223

Priority Mail Contract 224

Priority Mail Contract 225

Priority Mail Contract 226

Priority Mail Contract 227

Priority Mail Contract 228

Priority Mail Contract 229

Priority Mail Contract 230

Priority Mail Contract 231

Priority Mail Contract 232

Priority Mail Contract 233

Priority Mail Contract 234

Priority Mail Contract 235

Priority Mail Contract 236

Priority Mail Contract 237

Priority Mail Contract 238

Priority Mail Contract 239

Priority Mail Contract 240

Priority Mail Contract 241

Priority Mail Contract 242

Priority Mail Contract 243

Priority Mail Contract 244

Priority Mail Contract 245

Priority Mail Contract 246

Priority Mail Contract 247

Priority Mail Contract 248

Priority Mail Contract 249

Priority Mail Contract 250

Priority Mail Contract 251

Priority Mail Contract 252

Priority Mail Contract 253

Priority Mail Contract 254

Priority Mail Contract 255

Priority Mail Contract 256

Priority Mail Contract 257

Priority Mail Contract 258

Priority Mail Contract 259

Priority Mail Contract 260

Priority Mail Contract 261

Priority Mail Contract 262

Priority Mail Contract 263

Priority Mail Contract 264

Priority Mail Contract 265

Priority Mail Contract 266

Priority Mail Contract 267

Priority Mail Contract 268

Priority Mail Contract 269

Priority Mail Contract 270

Priority Mail Contract 271

Priority Mail Contract 272

Priority Mail Contract 273

Priority Mail Contract 274

Priority Mail Contract 275

Priority Mail Contract 276

Priority Mail Contract 277

Priority Mail Contract 278

Priority Mail Express & Priority Mail Contract 10

Priority Mail Express & Priority Mail Contract 12

Priority Mail Express & Priority Mail Contract 13

Priority Mail Express & Priority Mail Contract 16

Priority Mail Express & Priority Mail Contract 17

Priority Mail Express & Priority Mail Contract 18

Priority Mail Express & Priority Mail Contract 19

Priority Mail Express & Priority Mail Contract 20

Priority Mail Express & Priority Mail Contract 21

Priority Mail Express & Priority Mail Contract 22

Priority Mail Express & Priority Mail Contract 23

Priority Mail Express & Priority Mail Contract 24

Priority Mail Express & Priority Mail Contract 25

Priority Mail Express & Priority Mail Contract 27

Priority Mail Express & Priority Mail Contract 28

Priority Mail Express & Priority Mail Contract 29

Priority Mail Express & Priority Mail Contract 30

Priority Mail Express & Priority Mail Contract 31

Priority Mail Express & Priority Mail Contract 32

Priority Mail Express & Priority Mail Contract 33

Priority Mail Express & Priority Mail Contract 34

Priority Mail Express & Priority Mail Contract 35

Priority Mail Express & Priority Mail Contract 36

Priority Mail Express & Priority Mail Contract 37

Priority Mail Express & Priority Mail Contract 38

Parcel Select & Parcel Return Service Contract 3

Parcel Select & Parcel Return Service Contract 5

Parcel Select Contract 2

Parcel Select Contract 8

Parcel Select Contract 9

Parcel Select Contract 10

Parcel Select Contract 11

Parcel Select Contract 12

Parcel Select Contract 13

Parcel Select Contract 14

Parcel Select Contract 15

Parcel Select Contract 16

Parcel Select Contract 17

Priority Mail—Non-Published Rates

Priority Mail—Non-Published Rates 1

First-Class Package Service Contract 35

First-Class Package Service Contract 36

First-Class Package Service Contract 37

First-Class Package Service Contract 38

First-Class Package Service Contract 39

First-Class Package Service Contract 40

First-Class Package Service Contract 41

First-Class Package Service Contract 42

First-Class Package Service Contract 43

First-Class Package Service Contract 44

First-Class Package Service Contract 45

First-Class Package Service Contract 46

First-Class Package Service Contract 47

First-Class Package Service Contract 48

First-Class Package Service Contract 49

First-Class Package Service Contract 50

First-Class Package Service Contract 51

First-Class Package Service Contract 52

First-Class Package Service Contract 53

First-Class Package Service Contract 54

First-Class Package Service Contract 55

First-Class Package Service Contract 56

First-Class Package Service Contract 57

First-Class Package Service Contract 58

First-Class Package Service Contract 59

First-Class Package Service Contract 60

First-Class Package Service Contract 61

First-Class Package Service Contract 62

First-Class Package Service Contract 63

First-Class Package Service Contract 64

First-Class Package Service Contract 65

First-Class Package Service Contract 66

First-Class Package Service Contract 67

First-Class Package Service Contract 68

First-Class Package Service Contract 69

First-Class Package Service Contract 70

Priority Mail Express, Priority Mail & First-Class Package Service

Contract 2

Priority Mail Express, Priority Mail & First-Class Package Service

Contract 3

Priority Mail Express, Priority Mail & First-Class Package Service

Contract 4

Priority Mail Express, Priority Mail & First-Class Package Service

Contract 5

Priority Mail Express, Priority Mail & First-Class Package Service

Contract 6

Priority Mail Express, Priority Mail & First-Class Package Service

Contract 7

Priority Mail Express, Priority Mail & First-Class Package Service

Contract 8

Priority Mail Express, Priority Mail & First-Class Package Service

Contract 9

Priority Mail Express, Priority Mail & First-Class Package Service

Contract 10

Priority Mail Express, Priority Mail & First-Class Package Service

Contract 11

Priority Mail Express, Priority Mail & First-Class Package Service

Contract 12

Priority Mail Express, Priority Mail & First-Class Package Service

Contract 13

Priority Mail Express, Priority Mail & First-Class Package Service

Contract 14

Priority Mail & First-Class Package Service Contract 2

Priority Mail & First-Class Package Service Contract 3

Priority Mail & First-Class Package Service Contract 4

Priority Mail & First-Class Package Service Contract 6

Priority Mail & First-Class Package Service Contract 7

Priority Mail & First-Class Package Service Contract 8

Priority Mail & First-Class Package Service Contract 9

Priority Mail & First-Class Package Service Contract 10

Priority Mail & First-Class Package Service Contract 11

Priority Mail & First-Class Package Service Contract 12

Priority Mail & First-Class Package Service Contract 13

Priority Mail & First-Class Package Service Contract 14

Priority Mail & First-Class Package Service Contract 15

Priority Mail & First-Class Package Service Contract 16

Priority Mail & First-Class Package Service Contract 17

Priority Mail & First-Class Package Service Contract 18

Priority Mail & First-Class Package Service Contract 19

Priority Mail & First-Class Package Service Contract 20

Priority Mail & First-Class Package Service Contract 21

Priority Mail & First-Class Package Service Contract 22

Priority Mail & First-Class Package Service Contract 23

Priority Mail & First-Class Package Service Contract 24

Priority Mail & First-Class Package Service Contract 25

Priority Mail & First-Class Package Service Contract 26

Priority Mail & First-Class Package Service Contract 27

Priority Mail & First-Class Package Service Contract 28

Priority Mail & First-Class Package Service Contract 29

Priority Mail & First-Class Package Service Contract 30

Priority Mail & First-Class Package Service Contract 31

Priority Mail & First-Class Package Service Contract 32

Priority Mail & First-Class Package Service Contract 33

Priority Mail & First-Class Package Service Contract 34

Priority Mail & First-Class Package Service Contract 35

Priority Mail & First-Class Package Service Contract 36

Priority Mail & First-Class Package Service Contract 37

Priority Mail & First-Class Package Service Contract 38

Priority Mail & First-Class Package Service Contract 39

Priority Mail & First-Class Package Service Contract 40

Priority Mail & First-Class Package Service Contract 41

Priority Mail & First-Class Package Service Contract 42

Priority Mail & Parcel Select Contract 1

Priority Mail & Parcel Select Contract 2

Outbound International*

Global Expedited Package Services (GEPS) Contracts

GEPS 3

GEPS 5

GEPS 6

GEPS 7

Global Bulk Economy (GBE) Contracts

Global Plus Contracts

Global Plus 1C

Global Plus 1D

Global Plus 2C

Global Plus 3

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Global Expedited Package Services (GEPS)—Non-Published Rates 5

Global Expedited Package Services (GEPS)—Non-Published Rates 6

Global Expedited Package Services (GEPS)—Non-Published Rates 7

Global Expedited Package Services (GEPS)—Non-Published Rates 8

Global Expedited Package Services (GEPS)—Non-Published Rates 9

Global Expedited Package Services (GEPS)—Non-Published Rates 10

Priority Mail International Regional Rate Boxes—Non-Published Rates

Outbound Competitive International Merchandise Return Service

Agreement with Royal Mail Group, Ltd.

Priority Mail International Regional Rate Boxes Contracts

Priority Mail International Regional Rate Boxes Contracts 1

Competitive International Merchandise Return Service Agreements with

Foreign Postal Operators

Competitive International Merchandise Return Service Agreements with Foreign Postal Operators 1

Competitive International Merchandise Return Service Agreements with Foreign Postal Operators 2

Inbound International*

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Royal Mail Group Inbound Air Parcel Post Agreement

Inbound Competitive Multi-Service Agreements with Foreign Postal Operators

Inbound Competitive Multi-Service Agreements with Foreign Postal

Operators 1

Special Services*

Address Enhancement Services

Greeting Cards, Gift Cards, and Stationery

International Ancillary Services

International Money Transfer Service—Outbound

International Money Transfer Service—Inbound

Premium Forwarding Service

Shipping and Mailing Supplies

Post Office Box Service

Competitive Ancillary Services

Nonpostal Services*

Advertising

Licensing of Intellectual Property other than Officially Licensed Retail Products (OLRP)

Mail Service Promotion

Officially Licensed Retail Products (OLRP)

Passport Photo Service

Photocopying Service

Rental, Leasing, Licensing or other Non-Sale Disposition of Tangible Property

Training Facilities and Related Services

USPS Electronic Postmark (EPM) Program

Market Tests*

Customized Delivery

Global eCommerce Marketplace (GeM)

Stacy L. Ruble,
Secretary.

[FR Doc. 2017-01898 Filed 1-27-17; 8:45 am]

BILLING CODE 7710-FW-P